DEPARTMENT OF THE TREASURY

Internal Revenue Service

26 CFR Part 1

[TD 9350]

RIN 1545-BE24

AJCA Modifications To the Section 6011 Regulations; Correction

AGENCY: Internal Revenue Service (IRS), Treasury.

ACTION: Correcting amendment.

SUMMARY: This document contains a correction to final regulations (TD 9350) which were published in the Federal Register on Friday, August 3, 2007 (72 FR 43146) that modify the rules relating to the disclosure of reportable transactions under section 6011.

DATES: This correction is effective on May 11, 2010, and is applicable on August 3, 2007.

FOR FURTHER INFORMATION CONTACT: Charles D. Wien or Michael H. Beker, (202) 622-3070 (not a toll-free number).

SUPPLEMENTARY INFORMATION:

Background

The final regulations (TD 9350) that are the subject of this document are under section 6011 of the Internal Revenue Code.

Need for Correction

As published, the final regulations (TD 9350) contain an error that may prove to be misleading and is in need of clarification.

List of Subjects in 26 CFR Part 1

Income taxes, Reporting and recordkeeping requirements.

Correction of Publication

Accordingly, 26 CFR part 1 is corrected by making the following correcting amendment:

PART 1—INCOME TAXES

Paragraph 1. The authority citation for part 1 continues to read in part as follows:

Authority: 26 U.S.C. 7805 * * *

Par. 2. Section 1.6011-4 is amended by revising the fifth sentence of paragraph (e)(1) to read as follows:

§ 1.6011-4 Requirement of statement disclosing participation in certain transactions by taxpayers.

* * * * *

(e) * * *

(1) * * * In the case of a taxpayer that is a partnership, an S corporation, or a trust, the disclosure statement for a reportable transaction must be attached to the partnership, S corporation, or trust's tax return for each taxable year in which the partnership, S corporation, or trust participates in the transaction under the rules of paragraph (c)(3)(i) of this section. * * *

* * * * *

LaNita Van Dyke,
Chief, Publications and Regulations Branch, Legal Processing Division, Associate Chief Counsel (Procedure and Administration).

[FR Doc. 2010-11078 Filed 5-10-10; 8:45 am]

BILLING CODE 4830-01-P